DEPARTMENT OF HOMELAND SECURITY

Office of the Secretary

Notice Designating the Northeastern University as a DHS Center of Excellence for Explosives Detection Mitigation and Response as Research Lead Institution

AGENCY: Office of the Secretary, Department of Homeland Security.

ACTION: Notice.

SUMMARY: The Department of Homeland Security has designated the Northeastern University as a DHS Center of Excellence for Explosives Detection Mitigation and Response, Research Lead Institution.

FOR FURTHER INFORMATION CONTACT: Douglas Bauer, Program Manager, University Programs, Science and Technology Directorate, Department of Homeland Security, Washington, DC 20528; telephone 202-254-6040, facsimile 202-254-6179; e-mail doug.bauer@dhs.gov.

SUPPLEMENTARY INFORMATION:

Background

Section 308 of the Homeland Security Act of 2002, Public Law 107-296, (the “Homeland Security Act”), as amended by the Consolidated Appropriations Resolution 2003, Public Law 108-7, and as codified in Title 6 of the United States Code Chapter I Subchapter III Section 188(b)(2) [6 U.S.C. 188(b)(2)], directs the Department of Homeland Security (“Department”) to sponsor extramural research, development, demonstration, testing and evaluation programs relating to homeland security. As part of this program, the Department has established a coordinated system of university-based centers for homeland security (the “Centers”).

The Centers are envisioned to be an integral component of the Department's capability to anticipate, prevent, respond to, and recover from terrorist attacks. The Centers will leverage multidisciplinary capabilities and fill gaps in current knowledge.

Title 6 U.S.C. 188(b)(2)(B) lists fourteen areas of substantive expertise that, if demonstrated, might qualify universities for designation as university-based centers. The listed areas of expertise include: (1) The training of first responders; (2) responding to incidents involving weapons of mass destruction and biological warfare; (3) emergency and diagnostic medical services; (4) chemical, biological, radiological and nuclear countermeasures or detection; (5) animal and plant health and diagnostics; (6) food safety; (7) water and wastewater operations; (8) port and waterway security; (9) multi-modal transportation; (10) information security and information engineering; (11) engineering; (12) educational outreach and technical assistance; (13) border and transportation security; and (14) the public policy implications and public dissemination of homeland security relevant research and development. However, the list is not exclusive. 6 U.S.C. 188(b)(2)(C) gives the Secretary discretion to except certain criteria specified in 6 U.S.C. 188(b)(2)(B) and consider additional criteria beyond those specified in 6 U.S.C. 188(b)(2)(B) in selecting universities for this program, as long as the Department issues a Federal Register notice explaining the criteria used for the designation.

Criteria

In response to Congressional direction contained in the Conference Report for the Fiscal Year 2007 Department of Homeland Security Appropriations Act, the DHS Under Secretary for Science and Technology developed a plan in November 2006 to establish new DHS Centers of Excellence in high priority science and technology areas which aligned to the DHS Science and Technology Directorate's research portfolios and for which DHS determined there were significant gaps in scientific understanding and technological development. These areas included: (1) Natural Disasters, Coastal Infrastructure and Emergency Management, (2) Explosives Detection, Mitigation and Response, (3) Maritime, Island and Remote Environment Security, and (4) Border Security and Immigration. Research in these areas will contribute significantly to the Department's ability to enhance homeland security and the safety of our citizens from both natural and man-made threats.

The criteria for designation for this new Center of Excellence for Explosives Detection Mitigation and Response (EDMR)is demonstrated expertise in conducting fundamental research in explosives-related science and engineering. S&T is establishing the EDMR COE to conduct research to enhance the Nation's technical capabilities to detect, prepare for, prevent damages from, respond to, and recover from terrorist attacks involving explosives. The EDMR COE will collaborate closely with the DHS/Science and Technology (S&T) Directorate's Explosives Division, which manages a full-spectrum research and development (R&D) program from fundamental research to advanced technologies. The EDMR COE will provide enabling basic research that will advance the technical tools and information that S&T's customers will need in the future. The EDMR COE will develop relevant educational curricula for both matriculated students and career professionals. The EDMR COE also will participate in S&T's University Network, a consortium of COEs that share resources and data and collaborate on research projects to provide cost-effective results to support DHS's mission.

Announcement of Funding Opportunities and Competition

In February 2007, the Department established a competitive process and requested white papers and proposals from universities that wished to be designated as DHS Centers of Excellence in: (1) Explosives Detection Mitigation and Response, (2) Explosives Detection, Mitigation and Response, (3) Maritime, Island and Remote Environment Security, or (4) Border Security and Immigration. The funding opportunity announcements for these four Centers of Excellence were published at http://www.grants.gov on February 4, 2007, as required by the Office of Management and Budget. In the area of Explosives Detection Mitigation and Response, DHS received 19 white papers and evaluated them through a peer-review panel process that included scientific expertise from the federal government, peer-institutional faculty, and the private sector. Following the white paper review, DHS received 5 full proposals by the closing date of July 30, 2007. The 5 full proposals were reviewed by subject matter experts external to DHS S&T. All 5 full proposals were referred to an internal review panel of S&T subject matter experts for evaluation, who recommended site visits at 3 sites. Based on information collected on these site visits, DHS selected Northeastern University to be the Research Lead Institution for the Explosives Detection Mitigation and Response Center of Excellence, in partnership with the University of Rhode Island (the Education Lead), New Mexico Institute of Mining and Technology and other affiliated universities.

Northeastern University and its partners will conduct basic and transformational research and develop educational programs on explosives-related issues including explosives properties, formulation, and characterization; detection of explosives and explosive devices; sensor materials; unconventional approaches to identify threats, and other countermeasures. These programs will include the development and use of explosives research and educational capabilities at minority-serving institutions.

This team of institutions will become an intrinsic part of the DHS science and technology portfolio, working closely with DHS and other federal, state and local governments to reduce potential damages from floods, hurricanes, and other natural disasters.

Jay M. Cohen,
Under Secretary for Science and Technology, Department of Homeland Security.

[FR Doc. E8-13287 Filed 6-12-08; 8:45 am]

BILLING CODE 4410-10-P